DEPARTMENT OF THE INTERIOR

National Park Service

[NPS-WASO-NRNHL-DTS#-37306; PPWOCRADI0, PCU00RP14.R50000]

National Register of Historic Places; Notification of Pending Nominations and Related Actions

AGENCY: National Park Service, Interior.

ACTION: Notice.

SUMMARY: The National Park Service is soliciting electronic comments on the significance of properties nominated before January 20, 2024, for listing or related actions in the National Register of Historic Places.

DATES: Comments should be submitted electronically by March 1, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 20, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

GEORGIA

Cobb County

Lemon Street School, 350 Lemon Street, Marietta, SG100009980

Coweta County

Brown's Mill Battlefield, 155 Millard Farmer Road, Newnan vicinity, SG100010004

Dooly County

Dooly County Campground, 21 Parsonage Road, Vienna vicinity, SG100009997

MARYLAND

Baltimore INDEPENDENT CITY

Barclay-East Baltimore-Midway Historic District, Bound by Barclay St., E North Ave., Harford Ave., E 25th St., Baltimore, SG100009978

Chinatown Historic District (Asian American Communities in Maryland MPS), Bounded by Wilson Alley, Park Avenue, Montague Street, and Tyson Street, Baltimore, MP100009990

Queen Anne's County

Starr Church, 1504 Starr Road, Centreville, SG100009979

MASSACHUSETTS

Dukes County

U.S. Marine Hospital at Vineyard Haven, 151 Lagoon Pond Road, Tisbury, SG100009983

Suffolk County

Lenox Street Apartments Historic District, Lenox St., Shawmut Ave., Kendall St., Ditmus Ct., Lattimore Ct., Trotter Ct., Boston, SG100009977

MISSISSIPPI

Lee County

The Raymond House, 5015 Raymond Avenue, Verona, SG100009996

OHIO

Hamilton County

Mater Dei Chapel, Mount St. Joseph University, 395 Neeb Road, Cincinnati, SG100010003

OREGON

Clackamas County

Camp Namanu, 10300 SE Camp Namanu, Sandy, SG100009998

Multnomah County

Cannady, Beatrice Morrow and E.D., House (African American Resources in Portland, Oregon, from 1851 to 1973 MPS), 2516 NE 26th Avenue, Portland, MP100009989

Rex Arms Apartments (Portland Eastside MPS), 1230 SE Morrison Street, Portland, MP100009991

Wallowa County

Maxville, Address Restricted, Wallowa, SG100009999

Yamhill County

Hughes Flying Boat (H-4 Hercules), 500 E Captain Michael King Smith, McMinnville, SG100009992

VIRGINIA

Appomattox County

Carver-Price School (Rosenwald Schools in Virginia MPS), 102 Carver Lane, Appomattox, MP100010001

Bedford County

Sammynick, 1108 Ashland Avenue, Bedford, SG100010002

Lee County

Pennington Gap Commercial Historic District, W Morgan Avenue, E Morgan Street, Magnolia Street, Main Street, N Kentucky Street, Pennington Ga, SG100010000

Additional documentation has been received for the following resource(s):

NEW JERSEY

Burlington County

Inskeep, John, Homestead (Additional Documentation), (Evesham Township MPS), 10 Madison Court, Marlton, AD93000866

TENNESSEE

Marion County

Christ Episcopal Church and Parish House (Additional Documentation), 302 3rd Street, South Pittsburg, AD77001278

Meigs County

Rymer, Bradford, Barn (Additional Documentation), (Meigs County, Tennessee MRA), 8143 TN-60, Georgetown, AD82004012

Montgomery County

Poston Block (Additional Documentation), 126-130 Public Square, Clarksville, AD72001247

Obion County

Confederate Monument (Additional Documentation), 911 Summer Street, Union City, AD77001286

Williamson County

Montpier, 1837 Old Natchez Trace, Franklin vicinity, AD82004073

Owen, Dr. Urban, House (Additional Documentation), (Williamson County MRA), 8730 Horton Highway, College Grove, AD88000326

Authority: Section 60.13 of 36 CFR part 60.

Sherry A. Frear,
Chief, National Register of Historic Places/National Historic Landmarks Program.

[FR Doc. 2024-03131 Filed 2-14-24; 8:45 am]

BILLING CODE 4312-52-P